DEPARTMENT OF COMMERCE

International Trade Administration

(A-557-805)

Extruded Rubber Thread From Malaysia; Notice of Final Results of Changed Circumstances Review of the Antidumping Duty Order and Intent To Revoke Antidumping Duty Order

AGENCY: Import Administration, International Trade Administration, Department of Commerce.

SUMMARY: On March 9, 2004, the Department published a notice of initiation and preliminary results of changed circumstances review and preliminarily found that there was a reasonable basis to determine that changed circumstances sufficient to warrant revocation exist. In our preliminary results, we gave interested parties an opportunity to comment. See 69 FR 10980 (Mar. 9, 2004). In March and April, 2004, Heveafil Sdn. Bhd., Filmax Sdn. Bhd., and Heveafil USA Inc. (collectively “Heveafil”), a producer/exporter of subject merchandise and an interested party in this proceeding, and the trustee in the bankruptcy for North American Rubber Thread Co., Inc. (North American) submitted case and rebuttal briefs, respectively.

EFFECTIVE DATE: August 24, 2004.

FOR FURTHER INFORMATION CONTACT: Irina Itkin or Elizabeth Eastwood, Office 2, AD/CVD Enforcement Group I, Import Administration, International Trade Administration, U.S. Department of Commerce, 14th Street and Constitution Avenue, NW., Washington, DC 20230; telephone: (202) 482-0656 or (202) 482-3874, respectively.

SUPPLEMENTARY INFORMATION:

Background

On March 9, 2004, the Department published in the Federal Register a notice of initiation and preliminary results of changed circumstances review and intent to revoke the order on extruded rubber thread from Malaysia. See Notice of Initiation of Changed Circumstances Review of the Antidumping Duty Order, Preliminary Results of Changed Circumstances Review, and Intent To Revoke Antidumping Duty Order, 69 FR 10980 (Mar. 9, 2004). On March 24, 2004, Heveafil submitted a case brief. On May 12, 2004, North American submitted a rebuttal brief. We received no other comments from interested parties on the Department's preliminary results.

Scope of the Order

The product covered by this review is extruded rubber thread. Extruded rubber thread is defined as vulcanized rubber thread obtained by extrusion of stable or concentrated natural rubber latex of any cross sectional shape, measuring from 0.18 mm, which is 0.007 inch or 140 gauge, to 1.42 mm, which is 0.056 inch or 18 gauge, in diameter. Extruded rubber thread is currently classifiable under subheading 4007.00.00 of the Harmonized Tariff Schedule of the United States (HTSUS). The HTSUS subheadings are provided for convenience and customs purposes. The written description of the scope of this review is dispositive.

Analysis of Comments Received

All issues raised in the case briefs by parties to this changed circumstances review are addressed in the “Issues and Decision Memorandum” (Decision Memo) from Jeffrey May, Deputy Assistant Secretary, to James J. Jochum, Assistant Secretary for Import Administration, dated August 11, 2004, which is adopted by this notice. A list of the issues which parties have raised and to which we have responded, all of which are in the Decision Memo, is attached to this notice as an Appendix. Parties can find a complete discussion of all issues raised in this review and the corresponding recommendations in this public memorandum, which is on file in the Central Records Unit in Room B-099 of the main Commerce Building.

In addition, a complete version of the Decision Memo can be accessed directly on the Web at http://ia.ita.doc.gov/frn. The paper copy and electronic version of the Decision Memo are identical in content.

Final Results

After our analysis of the comments received, we determine that it is appropriate to revoke the antidumping duty order on extruded rubber thread from Malaysia, effective as of October 1, 2003.

Instructions to U.S. Customs and Border Protection

We will instruct U.S. Customs and Border Protection (CBP) to liquidate without regard to antidumping duties, and to refund any estimated antidumping duties collected for all entries of extruded rubber thread from Malaysia, made on or after October 1, 2003, the first day of the most recent period of administrative review and the only period for which an administrative review has not been completed, in accordance with 19 CFR 351.222. We will also instruct CBP to pay interest on such refunds in accordance with section 778 of the Act.

Notification Regarding APO

This notice also serves as a reminder to parties subject to administrative protective order (APO) of their responsibility concerning the disposition of proprietary information disclosed under APO in accordance with 19 CFR 351.305. Timely notification of return/destruction of APO materials or conversion to judicial protective order is hereby requested. Failure to comply with the regulations and the terms of an APO is a sanctionable violation.

This notice is published in accordance with sections 751(b)(1) and (d) and 777(i) of the Act, and with 19 CFR 351.221(c)(3).

Dated: August 18, 2004.
James J. Jochum,
Assistant Secretary for Import Administration.

Appendix Issues in the Decision Memorandum

Comment 1: Whether the Department Must Liquidate Without Regard to Antidumping Duties All Unliquidated Entries

[FR Doc. E4-1895 Filed 8-23-04; 8:45 am]

BILLING CODE 3510-DS-S